DEPARTMENT OF ENERGY

Federal Energy Regulatory Commission

[Docket No. CP08-402-000]

Natural Gas Pipeline Company of America LLC; Notice of Request Under Blanket Authorization

May 21, 2008.

Take notice that on May 15, 2008, Natural Gas Pipeline Company of America LLC (Natural), 3250 Lacey Road, Suite 700, Downers Grove, Illinois 60515, filed in Docket No. CP08-402-000, a prior notice request pursuant to sections 157.205, 157.208, 157.211, and 157.212 of the Federal Energy Regulatory Commission's regulations under the Natural Gas Act for authorization to construct and operate facilities to connect Natural's pipeline system to Kinder Morgan Louisiana Pipeline LLC (KMLP) in Cameron Parish, Louisiana in order to receive re-vaporized liquefied natural gas (LNG) or to deliver natural gas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Natural proposes to construct and operate facilities necessary to establish a bi-directional interconnect with KMLP at a new interconnect point in Cameron Parish, Louisiana. The facilities include two 30-inch taps, and appurtenances, on Natural's existing Louisiana No. 1 and No. 2 pipelines located south of Highway 82 in Cameron Parish, Louisiana. The facilities will interconnect with Natural's system to Leg 2 of KMLP (a one mile 36-inch pipe) and will support Natural's lease of capacity to KMLP previously approved in Docket No. CP06-448-000. This interconnect will allow Natural to receive re-vaporized LNG from KMLP or to deliver natural gas to KMLP. KMLP will install and own bi-directional ultrasonic meters, a gas filter, electronic flow measurement equipment, and monitoring devices. The estimated cost of the project is approximately $1.03 million and all costs associated with the project will be reimbursed by KMLP. The proposed in-service date for the interconnect facilities is September 1, 2008.

Any questions regarding the application should be directed to Norman Watson, Director, Business Development, Natural Gas Pipeline Company of America LLC, 500 Dallas Street, Suite 1000, Houston, Texas 77002, at (713) 369-9219 or Bruce Newsome, Vice President, Natural Gas Pipeline Company of America LLC, 3250 Lacey Road, Suite 700, Downers Grove, Illinois 60515, at (630) 725-3070.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205), file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-11915 Filed 5-28-08; 8:45 am]

BILLING CODE 6717-01-P